Title 3—

The President

Presidential Determination No. 2001-14 of April 30, 2001

Certification To Permit U.S. Contributions to the International Fund for Ireland With Fiscal Year 2000 and 2001 Funds

Memorandum for the Secretary of State

Pursuant to section 5(c) of the Anglo-Irish Agreement Support Act of 1986 (Public Law 99-415), as amended in section 2811 of the Omnibus Consolidated and Emergency Supplemental Appropriations Act, 1999 (as contained in Public Law 105-277), I hereby certify that I am satisfied that: (1) the Board of the International Fund for Ireland, as a whole, is broadly representative of the interests of the communities in Ireland and Northern Ireland; and (2) disbursements from the International Fund (a) will be distributed to individuals and entities whose practices are consistent with the principles of economic justice; and (b) will address the needs of both communities in Northern Ireland and will create employment opportunities in regions and communities of Northern Ireland suffering from high rates of unemployment.

You are authorized and directed to transmit this determination, together with the attached statement setting forth a detailed explanation of the basis for this certification, to the Congress.

This determination shall be effective immediately and shall be published in the Federal Register.

B

THE WHITE HOUSE,

Washington, April 30, 2001.

[FR Doc. 01-12847

Filed 5-18-01; 8:45 am]

Billing code 4710-10-M